DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Application Form for Single Residential Lot or Structure Amendments to National Flood Insurance Program Maps.

OMB Number: 1660-0037.

Abstract: FEMA Form 81-92 is designed to assist requester in gathering information that FEMA needs to determine whether a certain single-lot property or structure is likely to be flooded during a flood event that has a one-percent annual chance of being equaled or exceeded in any given year (based flood). FEMA Form 81-92A is a Spanish version of FEMA Form 81-92 and, as such, only one of the two forms would be required for any one application.

Affected Public: Individuals or household (homeowners) and business or other for profit.

Number of Respondents: 26,400.

Estimated Time per Respondent: 2.4.

Estimated Total Annual Burden Hours: 31,680.

Frequency of Response: 1.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before July 20, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: June 12, 2007.
John A. Sharetts-Sullivan,
Chief, Records Management and Privacy, Office of Management Directorate, Information Resources Management Branch, Information Technology Services Division, Federal Emergency Management Agency, Department of Homeland Security.

[FR Doc. E7-11952 Filed 6-19-07; 8:45 am]

BILLING CODE 9110-12-P